DEPARTMENT OF THE TREASURY

Customs Service

[T.D. 00-43]

Tuna Fish—Tariff-Rate Quota

The tariff-rate quota for calendar year 2000, on tuna classifiable under subheading 1604.14.20, Harmonized Tariff Schedule of the United States (HTSUS).

AGENCY: U.S. Customs Service, Department of the Treasury.

ACTION: Announcement of the quota quantity for tuna fish for calendar year 2000.

SUMMARY: Each year, the tariff-rate quota for tuna fish described in subheading 1604.14.20, HTSUS, is based on canned tuna production by the United States for the preceding calendar year. This document sets forth the quota for calendar year 2000.

EFFECTIVE DATES: The calendar year 2000 tariff-rate quota is applicable to tuna fish entered, or withdrawn from warehouse, for consumption during the period January 1, through December 31, 2000.

FOR FURTHER INFORMATION CONTACT: Cynthia Porter, Chief, Quota/Visa Branch, Trade Programs, Office of Field Operations, U.S. Customs Service, Washington, D.C. 20229, (202) 927-5399.

Background

It has been determined that 28,305,623 kilograms of tuna may be entered or withdrawn from warehouse for consumption during the calendar year 2000, at the rate of 6 percent ad valorem under subheading 1604.14.20, HTSUS. Any such tuna which is entered, or withdrawn from warehouse, for consumption during the current calendar year in excess of this quota will be dutiable at the rate of 12.5 percent ad valorem under subheading 1604.14.30 HTSUS.

Dated: June 30, 2000.
Raymond W. Kelly,
Commissioner.

[FR Doc. 00-17137 Filed 7-6-00; 8:45 am]

BILLING CODE 4820-02-P